DEPARTMENT OF COMMERCE

National Oceanic and Atmospheric Administration

[RTID 0648-XA016]

Caribbean Fishery Management Council; Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will hold a 2-day meeting in February to discuss the items contained in the agenda in the SUPPLEMENTARY INFORMATION.

DATES: The meetings will be held on February 25, 2020, from 10 a.m. to 4 p.m. and on February 26, 2020, from 10 a.m. to 4 p.m.

ADDRESSES: The meetings will be held at the Doubletree by Hilton, 105 De Diego Avenue, San Juan, Puerto Rico 00914.

FOR FURTHER INFORMATION CONTACT: Caribbean Fishery Management Council, 270 Muñoz Rivera Avenue, Suite 401, San Juan, Puerto Rico 00918-1903, telephone: (787) 766-5926.

SUPPLEMENTARY INFORMATION:

February 25, 2020, 10 a.m.-4 p.m.

—Call to Order

—Adoption of Agenda

—OEAP Chairperson's Report

—Status of:

○ OEAP members meeting attendance

○ CFMC Report 168th Regular Meeting

○ USVI activities

○ Island-Based Fisheries Management Plans (IBFMPs)

○ Fishery Ecosystem Plan (FEP)

• EBFM-TAP

• Outreach & Education initiatives for fishers and consumers

○ Responsible Seafood Consumption Campaign

Chefs videos and activities for consumers

Fact Sheets and posters on underutilized species

○ Fishers workshops on the Marine Fisheries Ecosystem of Puerto Rico and the U.S. Virgin Islands

February 26, 2020, 10 a.m.-4 p.m.

○ 2021 Calendar

○ CFMC Facebook and YouTube communications with Stakeholders

○ PEPCO

—Other Business

The order of business may be adjusted as necessary to accommodate the completion of agenda items. The meeting will begin on February 25, 2020 at 10 a.m. and will end on February 26, 2020 at 4 p.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: January 17, 2020.
Tracey L. Thompson,
Acting Deputy Director, Office of Sustainable Fisheries, National Marine Fisheries Service.

[FR Doc. 2020-01088 Filed 1-22-20; 8:45 am]

BILLING CODE 3510-22-P